FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Acting Federal Reserve Board Clearance Officer—Cynthia Ayouch—Division of Research and Statistics, Board of Governors of the Federal Reserve System, Washington, DC 20551 (202-452-3829). Telecommunications Device for the Deaf (TDD) users may contact (202-263-4869), Board of Governors of the Federal Reserve System, Washington, DC 20551.

OMB Desk Officer—Shagufta Ahmed—Office of Information and Regulatory Affairs, Office of Management and Budget, New Executive Office Building, Room 10235, Washington, DC 20503.

Final approval under OMB delegated authority of the extension for three years, without revision, of the following reports:

Report title: Notifications Related to Community Development and Public Welfare Investments of State Member Banks.

Agency form number: FR H-6.

OMB control number: 7100-0278.

Frequency: Event-generated.

Reporters: State member banks.

Estimated annual reporting hours: 11 hours.

Estimated average hours per response: Post Notification, 2 hours; Application (Prior Approval) 2 hours; and Extension of divestiture period, 5 hours.

Number of respondents: Post Notification, 2; Application (Prior Approval), 1; and Extension of divestiture period, 1.

General description of report: This information collection is required to obtain a benefit (12 U.S.C. 338a, and 12 CFR 208.22). Individual respondent data generally are not regarded as confidential, but information that is proprietary or concerns examination ratings would be considered confidential pursuant to Freedom of Information Act (FOIA) Exemption 8. In addition, if the respondent can establish the potential for substantial competitive harm, such information would be protected from disclosure pursuant to FOIA Exemption 4. The confidentiality status would be determined on a case-by-case basis.

Abstract: Regulation H requires state member banks that want to make community development or public welfare investments to comply with the Regulation H notification requirements: (1) If the investment does not require prior Board approval, a written notice must be sent to the appropriate Federal Reserve Bank; (2) if certain criteria are not met, a request for approval must be sent to the appropriate Federal Reserve Bank; and, (3) if the Board orders divestiture but the bank cannot divest within the established time limit, a request or requests for extension of the divestiture period must be submitted to the appropriate Federal Reserve Bank.

Current Actions: On May 10, 2011, the Federal Reserve published a notice in the Federal Register (76 FR 27054) requesting public comment for 60 days on the extension, without revision, of the FR H-6. The comment period for this notice expired on July 11, 2011. The Federal Reserve did not receive any comments.

2. Report title: Application for Membership in the Federal Reserve System.

Agency form number: FR 2083, 2083A, 2083B, and 2083C.

OMB control number: 7100-0046.

Frequency: On occasion.

Reporters: Newly organized banks that seek to become state member banks, or existing banks or savings institutions that seek to convert to state member bank status.

Estimated annual reporting hours: 168 hours.

Estimated average hours per response: 4 hours.

Number of respondents: 42

General description of report: This information collection is authorized by Section 9 of the Federal Reserve Act (12 U.S.C. 321, 322, and 333) and is required to obtain or retain a benefit. Most individual respondent data are not considered confidential. Applicants may, however, request that parts of their membership applications be kept confidential, but in such cases the Applicant must justify its request by demonstrating how an exemption under the Freedom of Information Act (FOIA) is satisfied. The confidentiality status of the information submitted will be judged on a case-by-case basis

Abstract: The application for membership is a required one-time submission that collects the information necessary for the Federal Reserve to evaluate the statutory criteria for admission of a new or existing state bank into membership in the Federal Reserve System. The application collects managerial, financial, and structural data.

Current Actions: On May 10, 2011, the Federal Reserve published a notice in the Federal Register (76 FR 27054) requesting public comment for 60 days on the extension, without revision, of the FR 2083, 2083A, 2083B and FR 2083C. The comment period for this notice expired on July 11, 2011. The Federal Reserve did not receive any comments.

3. Report title: Applications for Subscription to, Adjustment in the Holding of, and Cancellation of Federal Reserve Bank Stock.

Agency form number: FR 2030, FR 2030a, FR 2056, FR 2086, FR 2086a, FR 2087.

OMB control number: 7100-0042.

Frequency: On occasion.

Reporters: National, state member, and nonmember banks.

Estimated annual reporting hours: FR 2030: 10 hours; FR 2030a: 16 hours; FR 2056: 517 hours; FR 2086: 1 hour; FR 2086a: 11 hours FR 2087: 1 hour.

Estimated average hours per response: .5 hours.

Number of respondents: FR 2030: 20; FR 2030a: 31; FR 2056: 1,034; FR 2086: 1; FR 2086a: 22; FR 2087: 2.

General description of report: These information collections are mandatory.

• FR 2030 and FR 2030a: (12 U.S.C. 222, 282, 248(a) and 321).

• FR 2056: (12 U.S.C. 287, 248(a) and (i)).

• FR 2086: (12 U.S.C. 287, 248(a) and (i)).

• FR 2086a: (12 U.S.C. 321, 287, 248(a)).

• FR 2087: (12 U.S.C. 288, 248(a) and (i)).

Most individual respondent data are not considered confidential. Applicants may request that parts of their membership applications be kept confidential. Any request for confidentiality must be accompanied by a detailed justification for confidentiality. The confidentiality status of the information submitted will be judged on a case-by-case basis.

Abstract: These application forms are required by the Federal Reserve Act and Regulation I. These forms must be used by a new or existing member bank (including a national bank) to request the issuance, and adjustment in, or cancellation of Federal Reserve Bank stock. The forms must contain certain certifications by the applicants, as well as certain other financial and shareholder data that is needed by the Federal Reserve to process the request.

Current Actions: On May 10, 2011, the Federal Reserve published a notice in the Federal Register (76 FR 27054) requesting public comment for 60 days on the extension, without revision, of the FR 2030, FR 2030a, FR 2056, FR 2086, FR 2086a, and FR 2087. The comment period for this notice expired on July 11, 2011. The Federal Reserve did not receive any comments.

Board of Governors of the Federal Reserve System, July 28, 2011.
Jennifer J. Johnson,
Secretary of the Board.

[FR Doc. 2011-19562 Filed 8-2-11; 8:45 am]

BILLING CODE 6210-01-P